SMALL BUSINESS ADMINISTRATION

[Disaster Declaration # 10818]

Pennsylvania Disaster # PA-00009

AGENCY: Small Business Administration.

ACTION: Notice.

SUMMARY: This is a Notice of the Presidential declaration of a major disaster for Public Assistance Only for the Commonwealth of Pennsylvania (FEMA-1684-DR), dated 02/23/2007.

Incident: Severe Storms and Flooding.

Incident Period: 11/16/2006 through 11/17/2006.

Effective Date: 02/23/2007.

Physical Loan Application Deadline Date: 04/24/2007.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416.

SUPPLEMENTARY INFORMATION: Notice is hereby given that as a result of the President's major disaster declaration on 02/23/2007, Private Non-Profit organizations that provide essential services of a governmental nature may file disaster loan applications at the address listed above or other locally announced locations.

The following areas have been determined to be adversely affected by the disaster:

Primary Counties:

Bradford, Lackawanna, Luzerne, Sullivan, Susquehanna, Wayne, Wyoming.

The Interest Rates are:

| Percent
Other (Including Non-Profit Organizations) With Credit Available Elsewhere | 5.250
Businesses And Non-Profit Organizations Without Credit Available Elsewhere | 4.000

The number assigned to this disaster for physical damage is 10818.

(Catalog of Federal Domestic Assistance Number 59008.)

Herbert L. Mitchell,
Associate Administrator for Disaster Assistance.

[FR Doc. E7-3783 Filed 3-2-07; 8:45 am]

BILLING CODE 8025-01-P